NATIONAL SCIENCE FOUNDATION

Notice of Intent To Seek Approval To Establish an Information Collection

AGENCY: National Science Foundation.

ACTION: Notice and request for comments.

SUMMARY: The National Science Foundation (NSF) is announcing plans to request approval of this collection. In accordance with the requirement of section 3506(c)(2)(A) of the Paperwork Reduction Act of 1995, we are providing opportunity for public comment on this action. After obtaining and considering public comment, NSF will prepare the submission requesting OMB clearance of this collection for no longer than 3 years.

DATES: Interested persons are invited to send comments regarding the burden or any other aspect of this collection of information requirements by February 12, 2013.

ADDRESSES: Written comments regarding the information collection and requests for copies of the proposed information collection request should be addressed to Suzanne Plimpton, Reports Clearance Officer, National Science Foundation, 4201 Wilson Blvd., Rm. 295, Arlington, VA 22230, or by email to splimpto@nsf.gov.

Comments: Written comments are invited on (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; or (d) ways to minimize the burden of the collection of information on those who are to respond, including through the use of appropriate automated, electronic, mechanical, or other technological collection techniques or other forms of information technology.

FOR FURTHER INFORMATION CONTACT: Suzanne H. Plimpton, Reports Clearance Officer, National Science Foundation, 4201 Wilson Boulevard, Suite 295, Arlington, Virginia 22230; telephone (703) 292-7556; or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION: Title: Program Evaluation of the Scholarships in Science, Technology, Engineering, and Mathematics (S-STEM) Program

OMB Approval Number: 3145-NEW

Expiration Date: Not applicable.

Overview of this information collection: The National Science Foundation (NSF) is supporting an evaluation of the Scholarships in Science, Technology, Engineering, and Mathematics (S-STEM) Program, which operates within NSF's Division of Undergraduate Education. The evaluation will include surveys of principal investigators, surveys of a sample of S-STEM scholarship recipients, and focus groups and interviews with project personnel and students during site visits to S-STEM awardee institutions. The S-STEM Program awards grants to a geographically diverse set of two- and four-year institutions of higher education (IHEs) that then provide scholarships for academically talented students, in science and engineering disciplines, who have demonstrated financial need. The institutions also provide resources and support services to assist students in becoming and/or remaining engaged in science and engineering through to the successful attainment of associate, baccalaureate, or graduate-level degrees. Funding for the S-STEM Program comes from H-1B VISAs, funding which was reauthorized in FY 2005 through Public Law 108-447. NSF is committed to providing stakeholders with information regarding the expenditures of taxpayer funds. The evaluation of the S-STEM Program will explore the strategies, practices, and characteristics of the implementation of exemplary S-STEM awardees; investigate S-STEM Program outcomes related to awarding scholarships to talented STEM students with demonstrated financial need; and investigate institutional-related outcomes of S-STEM grantees. If NSF cannot collect information from S-STEM participants, NSF will have no other means to consistently document the outcomes, strategies, and experiences related to the program.

Consult With Other Agencies and the Public

NSF has not consulted with other agencies. However, the contractor conducting the evaluation has gathered information from an external evaluation group of subject matter experts on the study design and data collection plan. A request for public comments will be solicited through announcement of data collection in the Federal Register.

Background

The evaluation will involve data from extant sources, web surveys and site visits. OMB approval is being sought for the new data that will be collected for the study. Primary data sources will include web surveys of S-STEM Program Principal Investigators (PIs) and S-STEM scholarship recipients and in-depth interviews or focus groups with a series of respondents during site visits to a subset of awardee institutions.

Respondents: Individuals (Principal Investigators, S-STEM scholarship recipients, other campus officials involved in the S-STEM program).

Number of Respondents: 8,907.

Average Time per Response: 24 minutes.

Burden on the Public: 3,563 total hours.

Dated: December 11, 2012.
Suzanne H. Plimpton,
Reports Clearance Officer, National Science Foundation.

[FR Doc. 2012-30177 Filed 12-13-12; 8:45 am]

BILLING CODE P